ELECTION ASSISTANCE COMMISSION

Sunshine Act Meeting

AGENCY: U.S. Election Assistance Commission.

ACTION: Notice of Public Hearing Agenda.

DATE AND TIME: Wednesday, April 27, (10:30 a.m.-12:30 p.m.-EDT).

PLACE: Suffolk University Law School, 120 Tremont Street; Sergeant Function Hall 1st Floor; Boston, MA 02108, Phone: (617) 573-8000.

AGENDA: EAC will hold a public hearing to receive testimony from election administrators and voters with disabilities about accessible voting and the progress made since passage of the Help America Vote Act of 2002 (HAVA). The objective of the hearing is to hear from voters with disabilities regarding their voting experiences, highlight EAC resources, and help election officials prepare for the 2016 elections. The hearing will include testimony from two panels: (1) Election administrators, and (2) advocates and voters with disabilities.

PARTICIPATION: In advance of the hearing, voters with disabilities are encouraged to share their experiences with accessible voting with the EAC. You may submit your written testimony to the EAC to be included as part of the transcript. Please email: listen@eac.gov and place “testimony” in the subject line.

THIS HEARING WILL BE OPEN TO THE PUBLIC

PERSON TO CONTACT FOR INFORMATION: Bryan Whitener, Telephone: (301) 563-3961.

Bryan Whitener,
Director of Communications and Clearinghouse, U.S. Election Assistance Commission.

[FR Doc. 2016-08398 Filed 4-7-16; 4:15 pm]

BILLING CODE 6820-KF-P